DEPARTMENT OF ENERGY

Federal Energy Regulatory Commission

Combined Notice of Filings #1

Take notice that the Commission received the following electric rate filings:

Docket Numbers: ER13-2483-002.

Applicants: Old Dominion Electric Cooperative.

Description: Report Filing: Refund Report of Old Dominion Electric Cooperative to be effective N/A.

Filed Date: 4/24/18.

Accession Number: 20180424-5169.

Comments Due: 5 p.m. ET 5/15/18.

Docket Numbers: ER17-2508-001.

Applicants: RE Gaskell West 1 LLC.

Description: Notice of Non-Material Change in Status of RE Gaskell West 1 LLC.

Filed Date: 4/24/18.

Accession Number: 20180424-5280.

Comments Due: 5 p.m. ET 5/15/18.

Docket Numbers: ER18-913-001.

Applicants: Northern States Power Company, a Minnesota corporation, a Wisconsin corporation.

Description: Tariff Amendment: Theoretical Reserve Amortization Supplement to be effective 1/1/2017.

Filed Date: 4/25/18.

Accession Number: 20180425-5119.

Comments Due: 5 p.m. ET 5/16/18.

Docket Numbers: ER18-1436-000.

Applicants: C.P. Crane LLC.

Description: Tariff Cancellation: Cancellation notice to be effective 6/1/2018.

Filed Date: 4/24/18.

Accession Number: 20180424-5267.

Comments Due: 5 p.m. ET 5/15/18.

Docket Numbers: ER18-1437-000.

Applicants: C.P. Crane LLC.

Description: Request for Waiver of C.P. Crane LLC.

Filed Date: 4/24/18.

Accession Number: 20180424-5278.

Comments Due: 5 p.m. ET 5/15/18.

Docket Numbers: ER18-1438-000.

Applicants: PJM Interconnection, L.L.C.

Description: Tariff Cancellation: Notice of Cancellation of ISA, Service Agreement No. 3639, Queue No. W4-038 to be effective 6/1/2018.

Filed Date: 4/25/18.

Accession Number: 20180425-5155.

Comments Due: 5 p.m. ET 5/16/18.

Docket Numbers: ER18-1439-000.

Applicants: Northern Indiana Public Service Company.

Description: § 205(d) Rate Filing: NIPSCO/IMTCO CIAC Agreement (Marshall Upgrades) to be effective 4/24/2018.

Filed Date: 4/25/18.

Accession Number: 20180425-5178.

Comments Due: 5 p.m. ET 5/16/18.

Docket Numbers: ER18-1440-000.

Applicants: PJM Interconnection, L.L.C.

Description: Tariff Cancellation: PJM SA No. 4740 among, PJM, O2 EMC and Virginia Electric and Power Company to be effective 6/1/2018.

Filed Date: 4/25/18.

Accession Number: 20180425-5191.

Comments Due: 5 p.m. ET 5/16/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 25, 2018.
Kimberly D. Bose,
Secretary.

[FR Doc. 2018-09255 Filed 5-1-18; 8:45 am]

BILLING CODE 6717-01-P